DEPARTMENT OF TRANSPORTATION

National Highway Traffic Safety Administration

49 CFR Part 593

[Docket No. NHTSA-2005-22233]

List of Nonconforming Vehicles; Decided To Be Eligible for Importation

AGENCY: National Highway Traffic Safety Administration (NHTSA), DOT.

ACTION: Final rule.

SUMMARY: This document revises the list of vehicles not originally manufactured to conform to the Federal motor vehicle safety standards (FMVSS) that NHTSA has decided to be eligible for importation. This list is contained in an appendix to the agency's regulations that prescribe procedures for import eligibility decisions. The list has been revised to add all vehicles that NHTSA has decided to be eligible for importation since October 1, 2004, and to remove all previously listed vehicles that are now more than 25 years old and need no longer comply with all applicable FMVSS to be lawfully imported. NHTSA is required by statute to publish this list annually in the Federal Register.

DATES: The revised list of import eligible vehicles is effective on September 30, 2005.

FOR FURTHER INFORMATION CONTACT: Coleman Sachs, Office of Vehicle Safety Compliance, NHTSA, (202) 366-3151.

SUPPLEMENTARY INFORMATION: Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS. Where there is no substantially similar U.S.-certified motor vehicle, 49 U.S.C. 30141(a)(1)(B) permits a nonconforming motor vehicle to be admitted into the United States if its safety features comply with, or are capable of being altered to comply with, all applicable FMVSS based on destructive test data or such other evidence as the Secretary of Transportation decides to be adequate.

Under 49 U.S.C. 30141(a)(1), import eligibility decisions may be made “on the initiative of the Secretary of Transportation or on petition of a manufacturer or importer registered under [49 U.S.C. 30141(c)].” The Secretary's authority to make these decisions has been delegated to NHTSA. The agency publishes notice of eligibility decisions as they are made.

Under 49 U.S.C. 30141(b)(2), a list of all vehicles for which import eligibility decisions have been made must be published annually in the Federal Register. On October 1, 1996, NHTSA added the list as an appendix to 49 CFR Part 593, the regulations that establish procedures for import eligibility decisions (61 FR 51242). As described in the notice, NHTSA took that action to ensure that the list is more widely disseminated to government personnel who oversee vehicle imports and to interested members of the public. See 61 FR 51242-43. In the notice, NHTSA expressed its intention to annually revise the list as published in the appendix to include any additional vehicles decided by the agency to be eligible for importation since the list was last published. See 61 FR 51243. The agency stated that issuance of the document announcing these revisions will fulfill the annual publication requirements of 49 U.S.C. 30141(b)(2). Ibid.

Regulatory Analyses and Notices

A. Executive Order 12866, Regulatory Planning and Review

Executive Order 12866, “Regulatory Planning and Review” (58 FR 51735, October 4, 1993), provides for making determinations about whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order. This rule will not have any of these effects and was not reviewed under Executive Order 12866. It is not significant within the meaning of the DOT Regulatory Policies and Procedures. The effect of this rule is not to impose new requirements but to provide a summary compilation of decisions on import eligibility that have already been made and does not involve new decisions. This rule will not impose any additional burden on any person. The agency believes that this impact is minimal and does not warrant the preparation of a regulatory evaluation.

B. Environmental Impacts

We have not conducted an evaluation of the impacts of this rule under the National Environmental Policy Act. This rule does not impose any change that would result in any impacts to the quality of the human environment. Accordingly, no environmental assessment is required.

C. Regulatory Flexibility Act

Pursuant to the Regulatory Flexibility Act, we have considered the impacts of this rule on small entities (5 U.S.C. 601 et seq.). I certify that this rule will not have a significant economic impact upon a substantial number of small entities within the context of the Regulatory Flexibility Act. The following is our statement providing the factual basis for the certification (5 U.S.C. 605(b)). This rule will not have any significant economic impact on a substantial number of small businesses because the rule merely furnishes information by revising the list in the Code of Federal Regulations of vehicles for which import eligibility decisions have previously been made. Accordingly, we have not prepared a Final Regulatory Flexibility Analysis.

D. Executive Order 13132, Federalism

E.O. 13132 requires NHTSA to develop an accountable process to ensure “meaningful and timely input by State and local officials in the development of regulatory policies that have federalism implications.” E.O. 13132 defines the term “Policies that have federalism implications” to include regulations that have “substantial direct effects on the States, on the relationship between the National Government and the States, or on the distribution of power and responsibilities among the various levels of government.” Under E.O. 13132, NHTSA may not issue a regulation that has federalism implications, that imposes substantial direct compliance costs, and that is not required by statute, unless the Federal Government provides the funds necessary to pay the direct compliance costs incurred by State and local governments, or NHTSA consults with State and local officials early in the process of developing the regulation.

This rule will have no direct effect on the States, on the relationship between the National Government and the States, or on the distribution of power and responsibilities among the various levels of government as specified in E.O. 13132. Thus, the requirements of section 6 of the Executive Order do not apply to this rule.

E. The Unfunded Mandates Reform Act

The Unfunded Mandates Reform Act of 1995 (Public Law 104-4) requires agencies to prepare a written assessment of the costs, benefits and other effects of proposed or final rules that include a Federal mandate likely to result in the expenditure by State, local or tribal governments, in the aggregate, or by the private sector, of more than $100 million annually. This rule will not result in additional expenditures by State, local or tribal governments or by any members of the private sector. Therefore, the agency has not prepared an economic assessment pursuant to the Unfunded Mandates Reform Act.

F. Paperwork Reduction Act

Under the Paperwork Reduction Act of 1995 (44 U.S.C. 3501 et seq.), a person is not required to respond to a collection of information by a Federal agency unless the collection displays a valid OMB control number. This rule does not impose any new collection of information requirements for which a 5 CFR part 1320 clearance must be obtained. DOT previously submitted to OMB and OMB approved the collection of information associated with the vehicle importation program in OMB Clearance No. 2127-0002, which expires on July 31, 2007.

G. Civil Justice Reform

Pursuant to Executive Order 12988, “Civil Justice Reform,” we have considered whether this rule has any retroactive effect. We conclude that it will not have such an effect.

H. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

If you wish to do so, please comment on the extent to which this final rule effectively uses plain language principles.

I. National Technology Transfer and Advancement Act

Under the National Technology and Transfer and Advancement Act of 1995 (Pub. L. 104-113), “all Federal agencies and departments shall use technical standards that are developed or adopted by voluntary consensus standards bodies, using such technical standards as a means to carry out policy objectives or activities determined by the agencies and departments.” This rule does not require the use of any technical standards.

J. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

K. Executive Order 13045, Economically Significant Rules Disproportionately Affecting Children

This rule is not subject to E.O. 13045 because it is not “economically significant” as defined under E.O. 12866, and does not concern an environmental, health, or safety risk that NHTSA has reason to believe may have a disproportionate effect on children.

L. Notice and Comment

NHTSA finds that prior notice and opportunity for comment are unnecessary under 5 U.S.C. 553(b)(3)(B) because this action does not impose any regulatory requirements. This rule merely revises the list of vehicles not originally manufactured to conform to the FMVSS that NHTSA has decided to be eligible for importation into the United States since the last list was prepared in September, 2004.

In addition, so that the list of vehicles for which import eligibility decisions have been made may be included in the next edition of 49 CFR parts 400 to 599, which is due for revision on October 1, 2005, good cause exists to dispense with the requirement in 5 U.S.C. 553(d) for the effective date of the rule to be delayed for at least 30 days following its publication.

List of Subjects in 49 CFR Part 593

Imports, Motor vehicle safety, Motor vehicles.

In consideration of the foregoing, part 593 of title 49 of the Code of Federal Regulations, Determinations that a vehicle not originally manufactured to conform to the Federal motor vehicle safety standards is eligible for importation, is amended as follows:

PART 593—[AMENDED]

1. The authority citation for part 593 continues to read as follows:

Authority: 49 U.S.C. 322 and 30141(b); delegation of authority at 49 CFR 1.50.

2. Appendix A to Part 593 is revised to read as follows:

Appendix A to Part 593—List of Vehicles Determined to be Eligible for Importation

(a) Each vehicle on the following list is preceded by a vehicle eligibility number. The importer of a vehicle admissible under any eligibility decision must enter that number on the HS-7 Declaration Form accompanying entry to indicate that the vehicle is eligible for importation.

(1) “VSA” eligibility numbers are assigned to all vehicles that are decided to be eligible for importation on the initiative of the Administrator under § 593.8.

(2) “VSP” eligibility numbers are assigned to vehicles that are decided to be eligible under § 593.7(f), based on a petition from a manufacturer or registered importer submitted under § 593.5(a)(1), which establishes that a substantially similar U.S.-certified vehicle exists.

(3) “VCP” eligibility numbers are assigned to vehicles that are decided to be eligible under § 593.7(f), based on a petition from a manufacturer or registered importer submitted under § 593.5(a)(2), which establishes that the vehicle has safety features that comply with, or are capable of being altered to comply with, all applicable FMVSS.

(b) Vehicles for which eligibility decisions have been made are listed alphabetically by make. Eligible models within each make are listed numerically by “VSA,” “VSP,” or “VCP” number.

(c) All hyphens used in the Model Year column mean “through” (for example, “1980-1989” means “1980 through 1989”).

(d) The initials “MC” used in the Manufacturer column mean “motorcycle.”

(e) The initials “SWB” used in the Model Type column mean “Short Wheel Base.”

(f) The initials “LWB” used in the Model Type column mean “Long Wheel Base.”

(g) For vehicles with a European country of origin, the term “Model Year” ordinarily means calendar year in which the vehicle was produced.

(h) All vehicles are left-hand-drive (LHD) vehicles unless noted as RHD. The initials “RHD” used in the Model Type column mean “Right-Hand-Drive.”

Vehicles Certified by Their Original Manufacturer as Complying With All Applicable Canadian Motor Vehicle Safety Standards
VSA-80 | (a) All passenger cars less than 25 years old that were manufactured before September 1, 1989.
| (b) All passenger cars manufactured on or after September 1, 1989, and before September 1, 1996, that, as originally manufactured, are equipped with an automatic restraint system that complies with Federal Motor Vehicle Safety Standard (FMVSS) No. 208.
| (c) All passenger cars manufactured on or after September 1, 1996, and before September 1, 2002, that, as originally manufactured, are equipped with an automatic restraint system that complies with FMVSS No. 208, and that comply with FMVSS No. 214.
| (d) All passenger cars manufactured on or after September 1, 2002, and before September 1, 2007, that, as originally manufactured, are equipped with an automatic restraint system that complies with FMVSS No. 208, and that comply with FMVSS Nos. 201, 214, 225, and 401.
VSA-81 | (a) All multipurpose passenger vehicles, trucks, and buses with a GVWR of 4,536 kg (10,000 lb) or less that are less than 25 years old and that were manufactured before September 1, 1991.
| (b) All multipurpose passenger vehicles, trucks, and buses with a GVWR of 4,536 kg (10,000 lb) or less that were manufactured on and after September 1, 1991, and before September 1, 1993 and that, as originally manufactured, comply with FMVSS Nos. 202 and 208.
| (c) All multipurpose passenger vehicles, trucks, and buses with a GVWR of 4,536 kg (10,000 lb) or less that were manufactured on or after September 1, 1993, and before September 1, 1998, and that, as originally manufactured, comply with FMVSS Nos. 202, 208, and 216.
| (d) All multipurpose passenger vehicles, trucks, and buses with a GVWR of 4,536 kg (10,000 lb) or less that were manufactured on or after September 1, 1998, and before September 1, 2002, and that, as originally manufactured, comply with FMVSS Nos. 202, 208, 214, and 216.
| (e) All multipurpose passenger vehicles, trucks, and buses with a GVWR of 4,536 kg (10,000 lb) or less that were manufactured on or after September 1, 2002, and before September 1, 2007, and that, as originally manufactured, comply with FMVSS Nos. 201, 202, 208, 214, and 216, and, insofar as it is applicable, with FMVSS No. 225.
VSA-82 | All multipurpose passenger vehicles, trucks, and buses with a GVWR greater than 4,536 kg (10,000 lb) that are less than 25 years old.
VSA-83 | All trailers and motorcycles less than 25 years old.

Vehicles Manufactured for Other Than the Canadian Market
Manufacturer | VSP | VSA | VCP | Model type(s) | Body | Model year(s)
Acura | 51 |  |  | Legend |  | 1988
Acura | 77 |  |  | Legend |  | 1989
Acura | 305 |  |  | Legend |  | 1990-1992
Alfa Romeo | 196 |  |  | 164 |  | 1989
Alfa Romeo | 76 |  |  | 164 |  | 1991
Alfa Romeo | 156 |  |  | 164 |  | 1994
Alfa Romeo | 124 |  |  | GTV |  | 1985
Alfa Romeo | 70 |  |  | Spider |  | 1987
Aston Martin | 430 |  |  | Vanquish |  | 2002-2004
Audi | 223 |  |  | 80 |  | 1988-1989
Audi | 93 |  |  | 100 |  | 1989
Audi | 317 |  |  | 100 |  | 1990-1992
Audi | 244 |  |  | 100 |  | 1993
Audi | 160 |  |  | 200 Quattro |  | 1985
Audi | 352 |  |  | A4 |  | 1996-2000
Audi | 400 |  |  | A4, RS4, S4 | 8D | 2000-2001
Audi | 332 |  |  | A6 |  | 1998-1999
Audi | 337 |  |  | A8 |  | 1997-2000
Audi | 424 |  |  | A8 |  | 2000
Audi | 238 |  |  | Avant Quattro |  | 1996
Audi | 443 |  |  | RS6 & RS Avant |  | 2003
Audi | 428 |  |  | S6 |  | 1996
Audi | 424 |  |  | S8 |  | 2000
Audi | 364 |  |  | TT |  | 2000-2001
Bimota (MC) | 397 |  |  | DB4 |  | 2000
Bimota (MC) | 397 |  |  | SB8 |  | 1999-2000
BMW |  | 66 |  | 316 |  | 1980-1982
BMW | 25 |  |  | 316 |  | 1986
BMW | 248 |  |  | 3 Series |  | 1995-1997
BMW | 462 |  |  | 3 Series |  | 1998
BMW | 379 |  |  | 3 Series |  | 1999
BMW | 356 |  |  | 3 Series |  | 2000
BMW | 379 |  |  | 3 Series |  | 2001
BMW |  | 23 |  | 318i, 318iA |  | 1981-1982
BMW |  | 23 |  | 318i, 318iA |  | 1983
BMW |  | 23 |  | 318i, 318iA |  | 1984-1985
BMW |  | 23 |  | 318i, 318iA |  | 1986
BMW |  | 23 |  | 318i, 318iA |  | 1987-1989
BMW |  | 16 |  | 320, 320i, 320iA |  | 1984-1985
BMW | 283 |  |  | 320i |  | 1990-1991
BMW |  | 16 |  | 320i & 320iA |  | 1980-1983
BMW |  | 67 |  | 323i |  | 1980-1985
BMW |  | 30 |  | 325, 325i, 325iA, 325E |  | 1985-1986
BMW |  | 24 |  | 325e, 325eA |  | 1984-1987
BMW | 96 |  |  | 325i |  | 1991
BMW | 197 |  |  | 325i |  | 1992-1996
BMW |  | 30 |  | 325i, 325iA |  | 1987-1989
BMW |  | 31 |  | 325iS, 325iSA |  | 1987-1989
BMW | 205 |  |  | 325iX |  | 1990
BMW |  | 33 |  | 325iX, 325iXA |  | 1988-1989
BMW | 194 |  |  | 5 Series |  | 1990-1995
BMW | 249 |  |  | 5 Series |  | 1995-1997
BMW | 314 |  |  | 5 Series |  | 1998-1999
BMW | 345 |  |  | 5 Series |  | 2000
BMW | 414 |  |  | 5 Series |  | 2000-2002
BMW | 450 |  |  | 5 Series |  | 2003-2004
BMW | 4 |  |  | 518i |  | 1986
BMW |  | 68 |  | 520, 520i |  | 1980
BMW |  | 68 |  | 520, 520i |  | 1981
BMW |  | 68 |  | 520, 520i |  | 1982-1983
BMW | 9 |  |  | 520iA |  | 1989
BMW |  | 26 |  | 524tdA |  | 1985-1986
BMW |  | 69 |  | 525, 525i |  | 1980
BMW |  | 69 |  | 525, 525i |  | 1981
BMW |  | 69 |  | 525, 525i |  | 1982
BMW | 5 |  |  | 525i |  | 1989
BMW |  | 21 |  | 528e, 528eA |  | 1982-1988
BMW |  | 20 |  | 528i, 528iA |  | 1980-1981
BMW |  | 20 |  | 528i, 528iA |  | 1982-1984
BMW |  | 22 |  | 533i, 533iA |  | 1983-1984
BMW |  | 25 |  | 535i, 535iA |  | 1985-1989
BMW | 15 |  |  | 625CSi |  | 1981
BMW | 32 |  |  | 628CSi |  | 1980
BMW |  | 18 |  | 633CSi, 630CSiA |  | 1980-1984
BMW |  | 27 |  | 635, 635CSi, 635CSiA |  | 1980-1984
BMW |  | 27 |  | 635CSi, 635CSiA |  | 1985-1989
BMW | 299 |  |  | 7 Series |  | 1990-1991
BMW | 232 |  |  | 7 Series |  | 1992
BMW | 299 |  |  | 7 Series |  | 1993-1994
BMW | 313 |  |  | 7 Series |  | 1995-1999
BMW | 366 |  |  | 7 Series |  | 1999-2001
BMW |  | 70 |  | 728, 728i |  | 1980-1985
BMW | 14 |  |  | 728i |  | 1986
BMW |  | 71 |  | 730, 730i, 730iA |  | 1980
BMW | 6 |  |  | 730iA |  | 1988
BMW |  | 72 |  | 732i |  | 1980-1984
BMW |  | 19 |  | 733i, 733iA |  | 1980-1984
BMW |  | 28 |  | 735, 735i, 735iA |  | 1980-1984
BMW |  | 28 |  | 735i, 735iA |  | 1985-1989
BMW |  | 73 |  | 745i |  | 1980-1986
BMW | 361 |  |  | 8 Series |  | 1991-1995
BMW | 396 |  |  | 850 Series |  | 1997
BMW | 10 |  |  | 850i |  | 1990
BMW |  | 78 |  | All other passenger car models except those in the M1 and Z1 series |  | 1980-1989
BMW |  | 29 |  | L7 |  | 1986-1987
BMW |  | 35 |  | M3 |  | 1988-1989
BMW |  | 34 |  | M5 |  | 1988
BMW |  | 32 |  | M6 |  | 1987-1988
BMW | 459 |  |  | X5 (manufactured 1/1/03-12/31/04) |  | 2003-2004
BMW | 260 |  |  | Z3 |  | 1996-1998
BMW | 350 |  |  | Z8 |  | 2000-2001
BMW | 406 |  |  | Z8 |  | 2002
BMW (MC) | 228 |  |  | K1 |  | 1990-1993
BMW (MC) | 285 |  |  | K100 |  | 1984-1992
BMW (MC) | 303 |  |  | K1100, K1200 |  | 1993-1998
BMW (MC) | 229 |  |  | K75S |  | 1987-1995
BMW (MC) | 465 |  |  | R100 |  | 1981
BMW (MC) | 231 |  |  | R1100 |  | 1994-1997
BMW (MC) | 368 |  |  | R1100 |  | 1998-2001
BMW (MC) | 177 |  |  | R1100RS |  | 1994
BMW (MC) | 453 |  |  | R1150GS |  | 2000
BMW (MC) | 359 |  |  | R1200C |  | 1998-2001
BMW (MC) | 295 |  |  | R80, R100 |  | 1986-1995
Bristol Bus |  |  | 2 | VRT Bus—Double Decker |  | 1980-1981
Buell (MC) | 399 |  |  | All Models |  | 1995-2002
Cadillac | 300 |  |  | DeVille |  | 1994-1999
Cadillac | 448 |  |  | DeVille (manufactured 8/1/99-12/31/00) |  | 2000
Cadillac | 375 |  |  | Seville |  | 1991
Cagiva | 444 |  |  | Gran Canyon 900 motorcycle |  | 1999
Chevrolet | 150 |  |  | 400SS |  | 1995
Chevrolet | 298 |  |  | Astro Van |  | 1997
Chevrolet | 405 |  |  | Blazer |  | 1986
Chevrolet | 349 |  |  | Blazer (plant code of “K” or “2” in the 11th position of the VIN) |  | 1997
Chevrolet | 461 |  |  | Blazer (plant code of “K” or “2” in the 11th position of the VIN) |  | 2001
Chevrolet | 435 |  |  | Camaro |  | 1999
Chevrolet | 369 |  |  | Cavalier |  | 1997
Chevrolet | 365 |  |  | Corvette |  | 1992
Chevrolet | 419 |  |  | Corvette Coupe |  | 1999
Chevrolet | 242 |  |  | Suburban |  | 1989-1991
Chrysler | 344 |  |  | Daytona |  | 1992
Chrysler | 373 |  |  | Grand Voyager |  | 1998
Chrysler | 276 |  |  | LHS (manufactured for sale in Mexico) |  | 1996
Chrysler | 216 |  |  | Shadow (Middle Eastern Market) |  | 1989
Chrysler | 273 |  |  | Town and Country |  | 1993
Citroen |  |  | 1 | XM |  | 1990-1992
Daimler | 12 |  |  | Limousine |  | 1985
Dodge | 135 |  |  | Ram |  | 1994-1995
Ducati (MC) | 241 |  |  | 600SS |  | 1992-1996
Ducati (MC) | 421 |  |  | 748 |  | 1999-2003
Ducati (MC) | 220 |  |  | 748 Biposto |  | 1996-1997
Ducati (MC) | 452 |  |  | 900 |  | 2001
Ducati (MC) | 201 |  |  | 900SS |  | 1991-1996
Ducati (MC) | 421 |  |  | 916 |  | 1999-2003
Ducati (MC) | 398 |  |  | 996R |  | 2001-2002
Ducati (MC) | 407 |  |  | Monster 600 |  | 2001
Eagle | 323 |  |  | Vision |  | 1994
Ferrari |  | 76 |  | 208, 208 Turbo (all models) |  | 1980-1988
Ferrari |  | 36 |  | 308 |  | 1980
Ferrari |  | 36 |  | 308 (all models) |  | 1981-1985
Ferrari |  | 37 |  | 328 (all models) |  | 1985
Ferrari |  | 37 |  | 328 (all models) |  | 1988-1989
Ferrari |  | 37 |  | 328 GTS |  | 1986-1987
Ferrari | 86 |  |  | 348 TB |  | 1992
Ferrari | 161 |  |  | 348 TS |  | 1992
Ferrari | 376 |  |  | 360 |  | 2001
Ferrari | 433 |  |  | 360 (manufactured after August 31, 2002) |  | 2002
Ferrari | 402 |  |  | 360 (manufactured before September 1, 2002) |  | 2002
Ferrari | 327 |  |  | 360 Modena |  | 1999-2000
Ferrari | 446 |  |  | 360 Series |  | 2004
Ferrari | 410 |  |  | 360 Spider & Coupe |  | 2003
Ferrari | 256 |  |  | 456 |  | 1995
Ferrari | 408 |  |  | 456 GT & GTA |  | 1997-1998
Ferrari | 445 |  |  | 456 GT & GTA |  | 1999
Ferrari | 173 |  |  | 512 TR |  | 1993
Ferrari | 377 |  |  | 550 |  | 2001
Ferrari | 292 |  |  | 550 Marinello |  | 1997-1999
Ferrari | 415 |  |  | 575 |  | 2002-2003
Ferrari | 436 |  |  | Enzo |  | 2003-2004
Ferrari | 259 |  |  | F355 |  | 1995
Ferrari | 355 |  |  | F355 |  | 1996-1998
Ferrari | 391 |  |  | F355 |  | 1999
Ferrari | 226 |  |  | F50 |  | 1995
Ferrari |  | 38 |  | GTO |  | 1985
Ferrari |  | 74 |  | Mondial (all models) |  | 1980-1989
Ferrari |  | 39 |  | Testarossa |  | 1987-1988
Ferrari |  | 39 |  | Testarossa |  | 1989
Ford | 265 |  |  | Bronco (manufactured in Venezuela) |  | 1995-1996
Ford | 322 |  |  | Escort (Nicaraguan) |  | 1996
Ford |  |  | 9 | Escort RS Cosworth |  | 1994-1995
Ford | 268 |  |  | Explorer (manufactured in Venezuela) |  | 1991-1998
Ford | 425 |  |  | F150 |  | 2000
Ford | 367 |  |  | Mustang |  | 1993
Ford | 471 |  |  | Mustang |  | 1997
Ford | 250 |  |  | Windstar |  | 1995-1998
Freightliner | 179 |  |  | FLD12064ST |  | 1991-1996
Freightliner | 178 |  |  | FTLD112064SD |  | 1991-1996
GMC | 383 |  |  | Jimmy |  | 1980
GMC | 134 |  |  | Suburban |  | 1992-1994
Harley Davidson (MC) | 202 |  |  | FX, FL, XL Series |  | 1980-1997
Harley Davidson (MC) | 253 |  |  | FX, FL, XL Series |  | 1998
Harley Davidson (MC) | 281 |  |  | FX, FL, XL Series |  | 1999
Harley Davidson (MC) | 321 |  |  | FX, FL, XL Series |  | 2000
Harley Davidson (MC) | 362 |  |  | FX, FL, XL Series |  | 2001
Harley Davidson (MC) | 372 |  |  | FX, FL, XL Series |  | 2002
Harley Davidson (MC) | 393 |  |  | FX, FL, XL Series |  | 2003
Harley Davidson (MC) | 422 |  |  | FX, FL, XL Series |  | 2004
Harley Davidson (MC) | 472 |  |  | FX, FL, XL Series |  | 2005
Harley Davidson (MC) | 374 |  |  | VRSCA |  | 2002
Harley Davidson (MC) | 394 |  |  | VRSCA |  | 2003
Harley Davidson (MC) | 422 |  |  | VRSCA |  | 2004
Hobby |  |  | 29 | Exclusive 650 KMFE Trailer |  | 2002-2003
Hobson |  |  | 8 | Horse Trailer |  | 1985
Honda | 280 |  |  | Accord |  | 1991
Honda | 319 |  |  | Accord |  | 1992-1999
Honda | 451 |  |  | Accord (sedan & wagon (RHD)) |  | 1994-1997
Honda | 128 |  |  | Civic DX Hatchback |  | 1989
Honda | 447 |  |  | CRV |  | 2002
Honda | 191 |  |  | Prelude |  | 1989
Honda | 309 |  |  | Prelude |  | 1994-1997
Honda (MC) | 440 |  |  | CB 750 (CB750F2T) |  | 1996
Honda (MC) | 106 |  |  | CB1000F |  | 1988
Honda (MC) |  |  | 22 | CBR 250 |  | 1989-1994
Honda (MC) | 348 |  |  | CMX250C |  | 1980-1987
Honda (MC) | 174 |  |  | CP450SC |  | 1986
Honda (MC) | 358 |  |  | RVF 400 |  | 1994-2000
Honda (MC) | 290 |  |  | VF750 |  | 1994-1998
Honda (MC) | 358 |  |  | VFR 400 |  | 1994-2000
Honda (MC) |  |  | 24 | VFR 400, RVF 400 |  | 1989-1993
Honda (MC) | 34 |  |  | VFR750 |  | 1990
Honda (MC) | 315 |  |  | VFR750 |  | 1991-1997
Honda (MC) | 315 |  |  | VFR800 |  | 1998-1999
Honda (MC) | 294 |  |  | VT600 |  | 1991-1998
Hyundai | 269 |  |  | Elantra |  | 1992-1995
Jaguar | 78 |  |  | Sovereign |  | 1993
Jaguar | 411 |  |  | S-Type |  | 2000-2002
Jaguar |  | 41 |  | XJ6 |  | 1980-1983
Jaguar |  | 41 |  | XJ6 |  | 1984
Jaguar |  | 41 |  | XJ6 |  | 1985-1986
Jaguar | 47 |  |  | XJ6 |  | 1987
Jaguar | 215 |  |  | XJ6 Sovereign |  | 1988
Jaguar |  | 40 |  | XJS |  | 1980
Jaguar |  | 40 |  | XJS |  | 1981-1985
Jaguar |  | 40 |  | XJS |  | 1986-1987
Jaguar | 175 |  |  | XJS |  | 1991
Jaguar | 129 |  |  | XJS |  | 1992
Jaguar | 195 |  |  | XJS |  | 1994-1996
Jaguar | 336 |  |  | XJS, XJ6 |  | 1988-1990
Jaguar | 330 |  |  | XK-8 |  | 1998
Jeep | 254 |  |  | Cherokee |  | 1993
Jeep | 180 |  |  | Cherokee |  | 1995
Jeep | 211 |  |  | Cherokee (European Market) |  | 1991
Jeep | 164 |  |  | Cherokee (Venezuelan) |  | 1992
Jeep | 404 |  |  | Grand Cherokee |  | 1994
Jeep | 431 |  |  | Grand Cherokee |  | 1997
Jeep | 382 |  |  | Grand Cherokee |  | 2001
Jeep | 389 |  |  | Grand Cherokee (LHD—Japanese market) |  | 1997
Jeep | 466 |  |  | Liberty |  | 2002
Jeep | 457 |  |  | Liberty (Mexican market) |  | 2004
Jeep | 217 |  |  | Wrangler |  | 1993
Jeep | 255 |  |  | Wrangler |  | 1995
Jeep | 341 |  |  | Wrangler |  | 1998
Kawasaki (MC) | 233 |  |  | EL250 |  | 1992-1994
Kawasaki (MC) | 190 |  |  | KZ550B |  | 1982
Kawasaki (MC) | 182 |  |  | ZX1000-B1 |  | 1988
Kawasaki (MC) | 222 |  |  | ZX400 |  | 1987-1997
Kawasaki (MC) | 312 |  |  | ZX6, ZX7, ZX9, ZX10, ZX11 |  | 1987-1999
Kawasaki (MC) | 288 |  |  | ZX600 |  | 1985-1998
Kawasaki (MC) | 247 |  |  | ZZR1100 |  | 1993-1998
Ken-Mex | 187 |  |  | T800 |  | 1990-1996
Kenworth | 115 |  |  | T800 |  | 1992
KTM (MC) | 363 |  |  | Duke II |  | 1995-2000
Lamborghini | 416 |  |  | Diablo (except 1997 Coupe) |  | 1996-1997
Lamborghini |  |  | 26 | Diablo Coupe |  | 1997
Lamborghini | 458 |  |  | Gallardo (Manuf 1/1/04-12/31/04) |  | 2004
Land Rover | 212 |  |  | Defender 110 |  | 1993
Land Rover | 432 |  |  | Defender 90 (manufactured before 9/1/1997) VIN “SALDV224*VA” or “SALDV324*VA” |  | 1997
Land Rover | 338 |  |  | Discovery |  | 1994-1998
Land Rover | 437 |  |  | Discovery (II) |  | 2000
Lexus | 293 |  |  | GS300 |  | 1993-1996
Lexus | 460 |  |  | GS300 |  | 1998
Lexus | 307 |  |  | RX300 |  | 1998-1999
Lexus | 225 |  |  | SC300 |  | 1991-1996
Lexus | 225 |  |  | SC400 |  | 1991-1996
Lincoln | 144 |  |  | Mark VII |  | 1992
Magni (MC) | 264 |  |  | Australia, Sfida |  | 1996-1999
Maserati | 155 |  |  | Bi-Turbo |  | 1985
Mazda | 413 |  |  | MPV |  | 2000
Mazda | 184 |  |  | MX-5 Miata |  | 1990-1993
Mazda |  | 42 |  | RX-7 |  | 1980-1981
Mazda | 199 |  |  | RX-7 |  | 1986
Mazda | 279 |  |  | RX-7 |  | 1987-1995
Mazda | 351 |  |  | Xedos 9 |  | 1995-2000
Mercedes Benz |  | 54 |  | 190 | 201.022 | 1984
Mercedes Benz |  | 54 |  | 190 D | 201.126 | 1984-1989
Mercedes Benz |  | 54 |  | 190 D (2.2) | 201.122 | 1984-1989
Mercedes Benz |  | 54 |  | 190 E | 201.024 | 1983
Mercedes Benz |  | 54 |  | 190 E | 201.034 | 1984-1985
Mercedes Benz |  | 54 |  | 190 E | 201.029 | 1986
Mercedes Benz |  | 54 |  | 190 E | 201.028 | 1986-1989
Mercedes Benz | 22 |  |  | 190 E | 201.024 | 1990
Mercedes Benz | 45 |  |  | 190 E | 201.024 | 1991
Mercedes Benz | 71 |  |  | 190 E | 201.028 | 1992
Mercedes Benz | 126 |  |  | 190 E | 201.018 | 1992
Mercedes Benz | 454 |  |  | 190 E |  | 1993
Mercedes Benz |  | 54 |  | 190 E (2.3) | 201.024 | 1984-1989
Mercedes Benz |  | 54 |  | 190 E (2.6) | 201.029 | 1987-1989
Mercedes Benz |  | 54 |  | 190 E (2.6) 16 | 201.034 | 1986-1989
Mercedes Benz |  | 52 |  | 200 | 123.020 | 1980
Mercedes Benz |  | 52 |  | 200 | 123.220 | 1980-1985
Mercedes Benz |  | 55 |  | 200 | 124.020 | 1985
Mercedes Benz |  | 52 |  | 200 D | 123.120 | 1980-1982
Mercedes Benz | 17 |  |  | 200 D | 124.120 | 1986
Mercedes Benz | 11 |  |  | 200 E | 124.021 | 1989
Mercedes Benz | 109 |  |  | 200 E | 124.012 | 1991
Mercedes Benz | 75 |  |  | 200 E | 124.019 | 1993
Mercedes Benz | 3 |  |  | 200 TE | 124.081 | 1989
Mercedes Benz | 168 |  |  | 220 E |  | 1993
Mercedes Benz | 167 |  |  | 220 TE Station Wagon |  | 1993-1996
Mercedes Benz |  | 52 |  | 230 | 123.023 | 1980-1985
Mercedes Benz |  | 52 |  | 230 C | 123.043 | 1980
Mercedes Benz |  | 52 |  | 230 CE | 123.243 | 1980-1984
Mercedes Benz | 84 |  |  | 230 CE | 124.043 | 1991
Mercedes Benz | 203 |  |  | 230 CE | 123.043 | 1992
Mercedes Benz |  | 52 |  | 230 E | 123.223 | 1980-1985
Mercedes Benz |  | 55 |  | 230 E | 124.023 | 1985-1987
Mercedes Benz | 1 |  |  | 230 E | 124.023 | 1988
Mercedes Benz | 20 |  |  | 230 E | 124.023 | 1989
Mercedes Benz | 19 |  |  | 230 E | 124.023 | 1990
Mercedes Benz | 74 |  |  | 230 E | 124.023 | 1991
Mercedes Benz | 127 |  |  | 230 E | 124.023 | 1993
Mercedes Benz |  | 52 |  | 230 T | 123.083 | 1980-1985
Mercedes Benz |  | 52 |  | 230 TE | 123.283 | 1980-1985
Mercedes Benz |  | 55 |  | 230 TE | 124.083 | 1985
Mercedes Benz | 2 |  | 230 TE | 124.083 |  | 1989
Mercedes Benz |  | 52 |  | 240 D | 123.123 | 1980-1985
Mercedes Benz |  | 52 |  | 240 TD | 123.183 | 1980-1985
Mercedes Benz |  | 52 |  | 250 | 123.026 | 1980-1983
Mercedes Benz |  | 52 |  | 250 | 123.026 | 1984-1985
Mercedes Benz | 172 |  |  | 250 D |  | 1992
Mercedes Benz | 245 |  |  | 250 E |  | 1990-1993
Mercedes Benz |  | 55 |  | 260 E | 124.026 | 1985
Mercedes Benz |  | 55 |  | 260 E | 124.026 | 1986
Mercedes Benz |  | 55 |  | 260 E | 124.026 | 1987-1989
Mercedes Benz | 105 |  |  | 260 E | 124.026 | 1992
Mercedes Benz | 18 |  |  | 260 SE | 126.020 | 1986
Mercedes Benz | 28 |  |  | 260 SE | 126.020 | 1989
Mercedes Benz |  | 52 |  | 280 | 123.030 | 1980-1985
Mercedes Benz |  | 51 |  | 280 C | 123.050 | 1980
Mercedes Benz |  | 52 |  | 280 CE | 123.053 | 1980-1985
Mercedes Benz |  | 52 |  | 280 E | 123.033 | 1980-1985
Mercedes Benz | 166 |  |  | 280 E |  | 1993
Mercedes Benz |  | 51 |  | 280 S | 116.020 | 1980
Mercedes Benz |  | 53 |  | 280 S | 126.021 | 1980-1983
Mercedes Benz |  | 51 |  | 280 SE | 116.024 | 1980
Mercedes Benz |  | 51 |  | 280 SE | 116.024 | 1980-1988
Mercedes Benz |  | 53 |  | 280 SE | 126.022 | 1980-1985
Mercedes Benz |  | 51 |  | 280 SEL | 116.025 | 1980
Mercedes Benz |  | 53 |  | 280 SEL | 126.023 | 1980-1985
Mercedes Benz |  | 44 |  | 280 SL | 107.042 | 1980-1985
Mercedes Benz |  | 44 |  | 280 SLC | 107.022 | 1980-1981
Mercedes Benz |  | 52 |  | 280 TE | 123.093 | 1980-1985
Mercedes Benz |  | 52 |  | 300 CD | 123.150 | 1980-1985
Mercedes Benz |  | 52 |  | 300 CD | 123.153 | 1980-1985
Mercedes Benz |  | 55 |  | 300 CE | 124.050 | 1988-1989
Mercedes Benz | 64 |  |  | 300 CE | 124.051 | 1990
Mercedes Benz | 83 |  |  | 300 CE | 124.051 | 1991
Mercedes Benz | 117 |  |  | 300 CE | 124.050 | 1992
Mercedes Benz | 94 |  |  | 300 CE | 124.061 | 1993
Mercedes Benz |  | 52 |  | 300 D | 123.133 | 1980-1985
Mercedes Benz |  | 52 |  | 300 D | 123.130 | 1980-1985
Mercedes Benz |  | 55 |  | 300 D | 124.130 | 1985-1986
Mercedes Benz |  | 55 |  | 300 D Turbo | 124.133 | 1985
Mercedes Benz |  | 55 |  | 300 D Turbo | 124.193 | 1986
Mercedes Benz |  | 55 |  | 300 D Turbo | 124.193 | 1987-1989
Mercedes Benz |  | 55 |  | 300 DT | 124.133 | 1986-1989
Mercedes Benz |  | 55 |  | 300 E | 124.030 | 1985
Mercedes Benz |  | 55 |  | 300 E | 124.030 | 1986-1989
Mercedes Benz | 114 |  |  | 300 E | 124.031 | 1992
Mercedes Benz | 192 |  |  | 300 E 4-Matic |  | 1990-1993
Mercedes Benz |  | 53 |  | 300 SD | 126.120 | 1981-1989
Mercedes Benz |  | 53 |  | 300 SE | 126.024 | 1985
Mercedes Benz |  | 53 |  | 300 SE | 126.024 | 1986-1987
Mercedes Benz |  | 53 |  | 300 SE | 126.024 | 1988-1989
Mercedes Benz | 68 |  |  | 300 SE | 126.024 | 1990
Mercedes Benz |  | 53 |  | 300 SEL | 126.025 | 1986
Mercedes Benz |  | 53 |  | 300 SEL | 126.025 | 1987
Mercedes Benz |  | 53 |  | 300 SEL | 126.025 | 1988-1989
Mercedes Benz | 21 |  |  | 300 SEL | 126.025 | 1990
Mercedes Benz |  | 44 |  | 300 SL | 107.041 | 1986-1988
Mercedes Benz |  | 7 |  | 300 SL | 107.041 | 1989
Mercedes Benz | 54 |  |  | 300 SL | 129.006 | 1992
Mercedes Benz |  | 52 |  | 300 TD | 123.190 | 1980-1985
Mercedes Benz |  | 52 |  | 300 TD | 123.193 | 1980-1985
Mercedes Benz |  | 55 |  | 300 TE | 124.090 | 1986-1989
Mercedes Benz | 40 |  |  | 300 TE | 124.090 | 1990
Mercedes Benz | 193 |  |  | 300 TE |  | 1992
Mercedes Benz | 310 |  |  | 320 CE |  | 1993
Mercedes Benz | 142 |  |  | 320 SL |  | 1992-1993
Mercedes Benz |  | 51 |  | 350 SE | 116.028 | 1980
Mercedes Benz |  | 51 |  | 350 SEL | 116.029 | 1980
Mercedes Benz |  | 51 |  | 350 SEL | 116.029 | 1980
Mercedes Benz |  | 53 |  | 380 SE | 126.032 | 1980-1983
Mercedes Benz |  | 53 |  | 380 SE | 126.043 | 1982-1989
Mercedes Benz |  | 53 |  | 380 SE | 126.032 | 1984-1989
Mercedes Benz |  | 53 |  | 380 SEL | 126.033 | 1980
Mercedes Benz |  | 53 |  | 380 SEL | 126.033 | 1981-1989
Mercedes Benz |  | 44 |  | 380 SL | 107.045 | 1980
Mercedes Benz |  | 44 |  | 380 SL | 107.045 | 1981-1989
Mercedes Benz |  | 44 |  | 380 SLC | 107.025 | 1981-1989
Mercedes Benz | 296 |  |  | 400 SE |  | 1992-1994
Mercedes Benz | 169 |  |  | 420 E |  | 1993
Mercedes Benz |  | 53 |  | 420 SE | 126.034 | 1985
Mercedes Benz |  | 53 |  | 420 SE | 126.034 | 1986
Mercedes Benz |  | 53 |  | 420 SE | 126.034 | 1987-1989
Mercedes Benz | 230 |  |  | 420 SE |  | 1990-1991
Mercedes Benz | 209 |  |  | 420 SEC |  | 1990
Mercedes Benz |  | 53 |  | 420 SEL | 126.035 | 1986-1989
Mercedes Benz | 48 |  |  | 420 SEL | 126.035 | 1990
Mercedes Benz |  | 44 |  | 420 SL | 107.047 | 1986
Mercedes Benz |  | 51 |  | 450 SE | 116.032 | 1980
Mercedes Benz |  | 51 |  | 450 SEL | 116.033 | 1980-1988
Mercedes Benz |  | 51 |  | 450 SEL (6.9) | 116.036 | 1980-1988
Mercedes Benz |  | 44 |  | 450 SL | 107.044 | 1980-1989
Mercedes Benz |  | 44 |  | 450 SLC | 107.024 | 1980-1989
Mercedes Benz | 56 |  |  | 500 E | 124.036 | 1991
Mercedes Benz |  | 53 |  | 500 SE | 126.036 | 1980-1986
Mercedes Benz | 35 |  |  | 500 SE | 126.036 | 1988
Mercedes Benz | 154 |  |  | 500 SE |  | 1990
Mercedes Benz | 26 |  |  | 500 SE | 140.050 | 1991
Mercedes Benz |  | 53 |  | 500 SEC | 126.044 | 1981
Mercedes Benz |  | 53 |  | 500 SEC | 126.044 | 1982-1983
Mercedes Benz |  | 53 |  | 500 SEC | 126.044 | 1984-1989
Mercedes Benz | 66 |  |  | 500 SEC | 126.044 | 1990
Mercedes Benz |  | 53 |  | 500 SEL | 126.037 | 1980-1983
Mercedes Benz |  | 53 |  | 500 SEL | 126.037 | 1984-1989
Mercedes Benz | 153 |  |  | 500 SEL |  | 1990
Mercedes Benz | 63 |  |  | 500 SEL | 126.037 | 1991
Mercedes Benz |  | 44 |  | 500 SL | 107.046 | 1980
Mercedes Benz |  | 44 |  | 500 SL | 107.046 | 1981
Mercedes Benz |  | 44 |  | 500 SL | 107.046 | 1982
Mercedes Benz |  | 44 |  | 500 SL | 107.046 | 1983
Mercedes Benz |  | 44 |  | 500 SL | 107.046 | 1984-1985
Mercedes Benz |  | 44 |  | 500 SL | 107.046 | 1986-1989
Mercedes Benz | 23 |  |  | 500 SL | 129.066 | 1989
Mercedes Benz | 33 |  |  | 500 SL | 126.066 | 1991
Mercedes Benz | 60 |  |  | 500 SL | 129.006 | 1992
Mercedes Benz |  | 44 |  | 500 SLC | 107.026 | 1980-1981
Mercedes Benz |  | 53 |  | 560 SEC | 126.045 | 1986-1989
Mercedes Benz | 141 |  |  | 560 SEC | 126.045 | 1990
Mercedes Benz | 333 |  |  | 560 SEC |  | 1991
Mercedes Benz |  | 53 |  | 560 SEL | 126.039 | 1986-1989
Mercedes Benz | 89 |  |  | 560 SEL | 126.039 | 1990
Mercedes Benz | 469 |  |  | 560 SEL | 140 | 1991
Mercedes Benz |  | 44 |  | 560 SL | 107.048 | 1986-1989
Mercedes Benz |  | 43 |  | 600 | 100.012 | 1980-1981
Mercedes Benz |  | 43 |  | 600 Landaulet | 100.015 | 1980-1981
Mercedes Benz |  | 43 |  | 600 Long 4dr | 100.014 | 1980-1981
Mercedes Benz |  | 43 |  | 600 Long 6dr | 100.016 | 1980-1981
Mercedes Benz | 185 |  |  | 600 SEC Coupe |  | 1993
Mercedes Benz | 271 |  |  | 600 SEL | 140.057 | 1993-1998
Mercedes Benz | 121 |  |  | 600 SL | 129.076 | 1992
Mercedes Benz |  | 77 |  | All other passenger car models except Model ID 114 and 115 with sales designations “long,” “station wagon,” or “ambulance” |  | 1980-1989
Mercedes Benz | 441 |  |  | C 320 | 203 | 2001-2002
Mercedes Benz | 331 |  |  | C Class |  | 1994-1999
Mercedes Benz | 456 |  |  | C Class | 203 | 2000-2001
Mercedes Benz | 277 |  |  | CL 500 |  | 1998
Mercedes Benz | 370 |  |  | CL 500 |  | 1999-2001
Mercedes Benz | 370 |  |  | CL 600 |  | 1999-2001
Mercedes Benz | 357 |  |  | CLK 320 |  | 1998
Mercedes Benz | 380 |  |  | CLK Class |  | 1999-2001
Mercedes Benz | 207 |  |  | E 200 |  | 1994
Mercedes Benz | 278 |  |  | E 200 |  | 1995-1998
Mercedes Benz | 168 |  |  | E 220 |  | 1994-1996
Mercedes Benz | 245 |  |  | E 250 |  | 1994-1995
Mercedes Benz | 166 |  |  | E 280 |  | 1994-1996
Mercedes Benz | 240 |  |  | E 320 |  | 1994-1998
Mercedes Benz | 418 |  |  | E 320 | 211 | 2002-2003
Mercedes Benz | 318 |  |  | E 320 Station Wagon |  | 1994-1999
Mercedes Benz | 169 |  |  | E 420 |  | 1994-1996
Mercedes Benz | 163 |  |  | E 500 |  | 1994
Mercedes Benz | 304 |  |  | E 500 |  | 1995-1997
Mercedes Benz | 401 |  |  | E Class | W210 | 1996-2002
Mercedes Benz | 429 |  |  | E Class | 211 | 2003-2004
Mercedes Benz | 354 |  |  | E Series |  | 1991-1995
Mercedes Benz |  |  | 11 | G-Wagon | 463 | 1996
Mercedes Benz |  |  | 15 | G-Wagon | 463 | 1997
Mercedes Benz |  |  | 16 | G-Wagon | 463 | 1998
Mercedes Benz |  |  | 18 | G-Wagon | 463 | 1999-2000
Mercedes Benz |  |  | 5 | G-Wagon 300 | 463.228 | 1990-1992
Mercedes Benz |  |  | 3 | G-Wagon 300 | 463.228 | 1993
Mercedes Benz |  |  | 5 | G-Wagon 300 | 463.228 | 1994
Mercedes Benz |  |  | 6 | G-Wagon 320 LWB | 463 | 1995
Mercedes Benz |  |  | 21 | G-Wagon 5 DR LWB | 463 | 2001
Mercedes Benz | 392 |  |  | G-Wagon 5 DR LWB | 463 | 2002
Mercedes Benz |  |  | 13 | G-Wagon LWB V-8 | 463 | 1992-1996
Mercedes Benz |  |  | 14 | G-Wagon SWB | 463 | 1990-1996
Mercedes Benz |  |  | 28 | G-Wagon SWB | 463 | 2004
Mercedes Benz |  |  | 25 | G-Wagon SWB Cabriolet & 3DR | 463 | 2001-2003
Mercedes Benz |  |  | 31 | G-Wagon SWB | 463 | 2005
Mercedes Benz | 85 |  |  | S 280 | 140.028 | 1994
Mercedes Benz | 236 |  |  | S 320 |  | 1994-1998
Mercedes Benz | 267 |  |  | S 420 |  | 1994-1997
Mercedes Benz | 235 |  |  | S 500 |  | 1994-1997
Mercedes Benz | 371 |  |  | S 500 |  | 2000-2001
Mercedes Benz | 297 |  |  | S 600 |  | 1995-1999
Mercedes Benz | 371 |  |  | S 600 |  | 2000-2001
Mercedes Benz | 185 |  |  | S 600 Coupe |  | 1994
Mercedes Benz | 214 |  |  | S 600L |  | 1994
Mercedes Benz | 423 |  |  | S Class | 140 | 1991-1994
Mercedes Benz | 395 |  |  | S Class |  | 1993
Mercedes Benz | 342 |  |  | S Class |  | 1995-1998
Mercedes Benz | 325 |  |  | S Class |  | 1998-1999
Mercedes Benz | 387 |  |  | S Class | W220 | 1999-2002
Mercedes Benz | 442 |  |  | S Class | 220 | 2002-2004
Mercedes Benz | 343 |  |  | SE Class |  | 1992-1994
Mercedes Benz | 343 |  |  | SEL Class | 140 | 1992-1994
Mercedes Benz | 329 |  |  | SL Class |  | 1993-1996
Mercedes Benz | 386 |  |  | SL Class | W129 | 1997-2000
Mercedes Benz |  |  | 19 | SL Class | R230 | 2001-2002
Mercedes Benz | 470 |  |  | SL Class (European Market) | 230 | 2003-2005
Mercedes Benz | 257 |  |  | SLK |  | 1997-1998
Mercedes Benz | 381 |  |  | SLK |  | 2000-2001
Mercedes Benz (truck) | 468 |  |  | Sprinter |  | 2001-2005
Mitsubishi | 13 |  |  | Galant Super Salon |  | 1989
Mitsubishi | 8 |  |  | Galant VX |  | 1988
Mitsubishi | 170 |  |  | Pajero |  | 1984
Moto Guzzi (MC) | 403 |  |  | California EV |  | 2002
Moto Guzzi (MC) | 118 |  |  | Daytona |  | 1993
Moto Guzzi (MC) | 264 |  |  | Daytona RS |  | 1996-1999
MV Agusta (MC) | 420 |  |  | F4 |  | 2000
Nissan | 162 |  |  | 240SX |  | 1988
Nissan | 198 |  |  | 300ZX |  | 1984
Nissan |  |  | 17 | GTS, GTR (RHD) |  | 1990-1999
Nissan | 138 |  |  | Maxima |  | 1989
Nissan | 316 |  |  | Pathfinder |  | 1987-1995
Nissan | 412 |  |  | Pathfinder |  | 2002
Nissan | 139 |  |  | Stanza |  | 1987
Nissan |  | 75 |  | Z, 280Z |  | 1980-1981
Peugeot | 65 |  |  | 405 |  | 1989
Plymouth | 353 |  |  | Voyager |  | 1996
Pontiac (MPV) | 189 |  |  | Trans Sport |  | 1993
Porsche | 346 |  |  | 911 |  | 1997-2000
Porsche | 439 |  |  | 911 (996) Carrera |  | 2002-2004
Porsche | 438 |  |  | 911 (996) GT3 |  | 2004
Porsche | 29 |  |  | 911 C4 |  | 1990
Porsche |  | 56 |  | 911 Cabriolet |  | 1984-1989
Porsche |  | 56 |  | 911 Carrera |  | 1980-1989
Porsche | 165 |  |  | 911 Carrera |  | 1993
Porsche | 103 |  |  | 911 Carrera |  | 1994
Porsche | 165 |  |  | 911 Carrera |  | 1995-1996
Porsche | 52 |  |  | 911 Carrera 2 & Carrera 4 |  | 1992
Porsche |  | 56 |  | 911 Coupe |  | 1980-1989
Porsche |  | 56 |  | 911 Targa |  | 1980-1989
Porsche |  | 56 |  | 911 Turbo |  | 1980-1989
Porsche | 125 |  |  | 911 Turbo |  | 1992
Porsche | 347 |  |  | 911 Turbo |  | 2001
Porsche |  | 59 |  | 924 Coupe |  | 1980-1989
Porsche |  | 59 |  | 924 S |  | 1987-1989
Porsche |  | 59 |  | 924 Turbo Coupe |  | 1980-1989
Porsche | 266 |  |  | 928 |  | 1991-1996
Porsche | 272 |  |  | 928 |  | 1993-1998
Porsche |  | 60 |  | 928 Coupe |  | 1980-1989
Porsche |  | 60 |  | 928 GT |  | 1980-1989
Porsche |  | 60 |  | 928 S Coupe |  | 1983-1989
Porsche |  | 60 |  | 928 S4 |  | 1980-1989
Porsche | 210 |  |  | 928 S4 |  | 1990
Porsche |  | 61 |  | 944 |  | 1982-1983
Porsche |  | 61 |  | 944 Coupe |  | 1984-1989
Porsche | 97 |  |  | 944 S Cabriolet |  | 1990
Porsche |  | 61 |  | 944 S Coupe |  | 1987-1989
Porsche | 152 |  |  | 944 S2 (2-door Hatchback) |  | 1990
Porsche |  | 61 |  | 944 Turbo Coupe |  | 1985-1989
Porsche | 116 |  |  | 946 Turbo |  | 1994
Porsche |  | 79 |  | All other passenger car models except Model 959 |  | 1980-1989
Porsche | 390 |  |  | Boxster |  | 1997-2001
Porsche | 390 |  |  | Boxster (manufactured before 9/1/2002) |  | 2002
Porsche | 463 |  |  | Carrera GT |  | 2004-2005
Porsche | 464 |  |  | Cayenne |  | 2003-2004
Porsche |  |  | 20 | GT2 |  | 2001
Porsche | 388 |  |  | GT2 |  | 2002
Rolls Royce | 340 |  |  | Bentley |  | 1987-1989
Rolls Royce | 186 |  |  | Bentley Brooklands |  | 1993
Rolls Royce | 258 |  |  | Bentley Continental R |  | 1990-1993
Rolls Royce | 53 |  |  | Bentley Turbo |  | 1986
Rolls Royce | 291 |  |  | Bentley Turbo R |  | 1992-1993
Rolls Royce | 243 |  |  | Bentley Turbo R |  | 1995
Rolls Royce | 122 |  |  | Camargue |  | 1984-1985
Rolls Royce | 339 |  |  | Corniche |  | 1980-1985
Rolls Royce | 455 |  |  | Phantom |  | 2004
Rolls Royce | 188 |  |  | Silver Spur |  | 1984
Saab | 426 |  |  | 9.3 |  | 2003
Saab | 158 |  |  | 900 |  | 1983
Saab | 270 |  |  | 900 S |  | 1987-1989
Saab | 219 |  |  | 900 SE |  | 1990-1994
Saab | 213 |  |  | 900 SE |  | 1995
Saab | 219 |  |  | 900 SE |  | 1996-1997
Saab | 59 |  |  | 9000 |  | 1988
Saab | 334 |  |  | 9000 |  | 1994
Smart Car |  |  | 27 | City-Coupe, City-Coupe Glass Top, & Cabrio |  | 2002-2004
Smart Car |  |  | 30 | Fortwo coupe & cabriolet (incl. trim levels passion, pulse, & pure) |  | 2005
Sprite (trailer) |  |  | 12 | Musketeer |  | 1980
Suzuki (MC) | 111 |  |  | GS 850 |  | 1985
Suzuki (MC) | 287 |  |  | GSF 750 |  | 1996-1998
Suzuki (MC) | 208 |  |  | GSX 750 |  | 1983
Suzuki (MC) | 227 |  |  | GSX-R 1100 |  | 1986-1997
Suzuki (MC) | 275 |  |  | GSX-R 750 |  | 1986-1998
Suzuki (MC) | 417 |  |  | GSX-R 750 |  | 1999-2003
Toyota | 449 |  |  | 4-Runner |  | 1998
Toyota | 308 |  |  | Avalon |  | 1995-1998
Toyota |  | 63 |  | Camry |  | 1987-1988
Toyota | 39 |  |  | Camry |  | 1989
Toyota |  | 64 |  | Celica |  | 1987-1988
Toyota |  | 65 |  | Corolla |  | 1987-1988
Toyota | 320 |  |  | Land Cruiser |  | 1980
Toyota | 252 |  |  | Land Cruiser |  | 1981-1988
Toyota | 101 |  |  | Land Cruiser |  | 1989
Toyota | 218 |  |  | Land Cruiser |  | 1990-1996
Toyota | 324 |  |  | MR2 |  | 1990-1991
Toyota | 326 |  |  | Previa |  | 1991-1992
Toyota | 302 |  |  | Previa |  | 1993-1997
Toyota | 328 |  |  | RAV4 |  | 1996
Toyota | 200 |  |  | Van |  | 1987-1988
Triumph (MC) | 311 |  |  | Thunderbird |  | 1995-1999
Triumph (MC) | 409 |  |  | TSS |  | 1982
Vespa (MC) | 378 |  |  | ET2, ET4 |  | 2001-2002
Volkswagen | 306 |  |  | Eurovan |  | 1993-1994
Volkswagen | 159 |  |  | Golf |  | 1987
Volkswagen | 80 |  |  | Golf |  | 1988
Volkswagen | 92 |  |  | Golf III |  | 1993
Volkswagen | 73 |  |  | Golf Rallye |  | 1988
Volkswagen | 467 |  |  | Golf Rallye |  | 1989
Volkswagen | 149 |  |  | GTI (Canadian) |  | 1991
Volkswagen | 274 |  |  | Jetta |  | 1994-1996
Volkswagen | 148 |  |  | Passat 4-door Sedan |  | 1992
Volkswagen | 42 |  |  | Scirocco |  | 1986
Volkswagen | 427 |  |  | Transporter |  | 1980
Volkswagen | 284 |  |  | Transporter |  | 1988-1989
Volkswagen | 251 |  |  | Transporter |  | 1990
Volvo | 43 |  |  | 262C |  | 1981
Volvo | 137 |  |  | 740 GL |  | 1992
Volvo | 87 |  |  | 740 Sedan |  | 1988
Volvo | 286 |  |  | 850 Turbo |  | 1995-1998
Volvo | 137 |  |  | 940 GL |  | 1992
Volvo | 95 |  |  | 940 GL |  | 1993
Volvo | 132 |  |  | 945 GL |  | 1994
Volvo | 176 |  |  | 960 Sedan & Wagon |  | 1994
Volvo | 434 |  |  | C70 |  | 2000
Volvo | 335 |  |  | S70 |  | 1998-2000
Yamaha (MC) | 113 |  |  | FJ1200 (4 CR) |  | 1991
Yamaha (MC) |  | 23 |  | FJR 1300 |  | 2002
Yamaha (MC) | 360 |  |  | R1 |  | 2000
Yamaha (MC) | 171 |  |  | RD-350 |  | 1983
Yamaha (MC) | 301 |  |  | Virago |  | 1990-1998

Jacqueline Glassman,
Deputy Administrator.

[FR Doc. 05-19528 Filed 9-29-05; 8:45 am]

BILLING CODE 4910-59-P